DEPARTMENT OF THE TREASURY

Internal Revenue Service

26 CFR Parts 53 and 54

[TD 9334]

RIN 1545-BG20

Requirement of Return and Time for Filing; Correction

AGENCY: Internal Revenue Service (IRS), Treasury.

ACTION: Correcting amendments.

SUMMARY: This document contains corrections to final and temporary regulations (TD 9334) that were published in the Federal Register on Friday, July 6, 2007 (72 FR 36871) providing guidance relating to the requirement of a return to accompany payment of excise taxes under section 4965 of the Internal Revenue Code and the time for filing that return.

DATES: The corrections are effective August 16, 2007.

FOR FURTHER INFORMATION CONTACT: Galina Kolomietz, (202) 622-6070, Michael Blumenfeld, (202) 622-1124, or Dana Barry, (202) 622-6060 (not toll-free numbers).

SUPPLEMENTARY INFORMATION:

Background

The final and temporary regulations that are the subject of this correction are under section 4965 of the Internal Revenue Code.

Need for Correction

As published, final and temporary regulations (TD 9334) contain errors that may prove to be misleading and are in need of clarification.

List of Subjects

26 CFR Part 53

Excise taxes, Foundations, Investments, Lobbying, Reporting and recordkeeping requirements.

26 CFR Part 54

Excise Taxes, Pensions, Reporting and recordkeeping requirements.

Correction of Publication

Accordingly, 26 CFR parts 53 and 54 are corrected by making the following correcting amendments:

PART 53—FOUNDATION AND SIMILAR EXCISE TAXES

Paragraph 1. The authority citation for part 53 continues to read, in part, as follows:

Authority: 26 U.S.C. 7805 * * *

Par. 2. Section 53.6071-1T is amended by revising paragraph (h)(2) to read as follows:

§ 53.6071-1T Time for filing returns (temporary).

* * * * *

(h) * * *

(2) Expiration date. Paragraph (g) of this section will expire on July 6, 2010.

PART 54—PENSION EXCISE TAXES

Par. 3. The authority citation for part 54 continues to read, in part, as follows:

Authority: 26 U.S.C. 7805 * * *

Par. 4. Section 54.6011-1T is amended by revising paragraph (d)(2) to read as follows:

§ 54.6011-1T General requirement of return, statement or list (temporary).

* * * * *

(d) * * *

(2) Expiration date. Paragraph (c) of this section will expire on July 6, 2010.

LaNita Van Dyke,
Chief, Publications and Regulations Branch, Legal Processing Division, Associate Chief Counsel (Procedure and Administration).

[FR Doc. E7-16075 Filed 8-15-07; 8:45 am]

BILLING CODE 4830-01-P